DEPARTMENT OF HOMELAND SECURITY

Transportation Security Administration

Reports, Forms, and Record Keeping Requirements: Agency Information Collection Activity Under OMB Review; Aircraft Operator Security

AGENCY: Transportation Security Administration (TSA), DHS.

ACTION: Notice.

SUMMARY: This notice announces that TSA has forwarded the Information Collection Request (ICR) abstracted below to the Office of Management and Budget (OMB) for review and clearance of an extension of the currently approved collection under the Paperwork Reduction Act. The ICR describes the nature of the information collection and its expected burden. TSA published a Federal Register notice, with a 60-day comment period soliciting comments, of the following collection of information on November 26, 2003, 68 FR 66473.

DATES: Send your comments by March 12, 2004. A comment to OMB is most effective if OMB receives it within 30 days of publication.

ADDRESSES: Comments may be faxed to the Office of Information and Regulatory Affairs, Office of Management and Budget, Attention: DHS-TSA Desk Officer, at (202) 395-5806.

FOR FURTHER INFORMATION CONTACT: Conrad Huygen, Privacy Act Officer, Transportation Security Administration, West Tower 412-S, TSA-17, 601 S. 12th Street, Arlington, VA 22202-4220; telephone (571) 227-1954; facsimile (571) 227-2912.

SUPPLEMENTARY INFORMATION:

Transportation Security Administration (TSA)

Title: Aircraft Operator Security.

Type of Request: Extension of a currently approved collection.

OMB Control Number: 1652-0003.

Forms(s): NA.

Affected Public: Air carriers.

Abstract: TSA is seeking to renew information collection request number 1652-0003, which was originally obtained by the Federal Aviation Administration (FAA) to ensure compliance with the standards that were developed and implemented at 14 CFR part 108. The Aviation and Transportation Security Act of 2001 (ATSA), Public Law 107-71, transferred the responsibility for civil aviation security from the FAA to TSA. In February 2002, TSA implemented aircraft operator security standards at 49 CFR part 1544, while 14 CFR part 108 was repealed. This regulation requires aircraft operators to maintain and update their security programs for inspection by TSA to ensure security, safety, and regulatory compliance.

Number of Respondents: 83.

Estimated Annual Burden Hours: 43,160.

TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including through the use of appropriate automated, electronic, mechanical, or other technological collection techniques or other forms of information technology.

Issued in Arlington, Virginia, on February 6, 2004.
Susan T. Tracey,
Chief Administrative Officer.

[FR Doc. 04-2994 Filed 2-10-04; 8:45 am]

BILLING CODE 4910-62-P